DEPARTMENT OF THE INTERIOR

Bureau of Land Management

[LLCAD01000 L12100000.MD0000 17XL1109AF]

Meeting of the California Desert District Advisory Council

AGENCY: Bureau of Land Management.

ACTION: Notice of public meeting.

SUMMARY: In accordance with the Federal Land Policy and Management Act of 1976 (FLPMA), and the Federal Advisory Committee Act of 1972 (FACA), the U.S. Department of the Interior, Bureau of Land Management (BLM) California Desert District Advisory Council (DAC) will meet as indicated below.

DATES: The next meeting of the BLM's California DAC will be held February 24-25, 2017. The council will participate in a field tour of BLM-administered public lands on Friday, February 24, 2017, from 10:00 a.m. to 5:00 p.m. and will meet in formal session on Saturday, February 25, 2017, from 8:00 a.m. to 5:00 p.m. in Needles, California. Members of the public are welcome. They must provide their own transportation, meals and beverages. Final agendas for the Friday field trip and the Saturday public meeting, along with the Saturday meeting location, will be posted on the BLM Web page when finalized.

FOR FURTHER INFORMATION CONTACT: Stephen Razo, BLM California Desert District External Affairs, 1-951-697-5217. Persons who use a telecommunications device for the deaf (TDD) may call the Federal Information Relay Service (FIRS) at 1-800-877-8339 to contact the above individual during normal business hours. The FIRS is available 24 hours a day, 7 days a week, to leave a message or question with the above individuals. You will receive a reply during normal hours.

SUPPLEMENTARY INFORMATION: All DAC meetings are open to the public. The 15-member council advises the Secretary of the Interior, through the BLM, on a variety of planning and management issues associated with public land management on BLM-administered lands in the California desert. The agenda will include time for public comment at the beginning and end of the meeting, as well as during various presentations. While the Saturday meeting is tentatively scheduled from 8:00 a.m. to 5:00 p.m., the meeting could conclude prior to 5:00 p.m. should the council conclude its presentations and discussions. Therefore, members of the public interested in a particular agenda item or discussion should schedule their arrival accordingly. The agenda for the Saturday meeting will include updates by council members, the BLM California Desert District manager, five field managers, and council subgroups. Written comments may be filed in advance of the meeting for the California Desert District Advisory Council, c/o Bureau of Land Management, External Affairs, 22835 Calle San Juan de Los Lagos, Moreno Valley, CA 92553. Written comments will also be accepted at the time of the meeting and, if copies are provided to the recorder, will be incorporated into the minutes.

Dated: January 9, 2017.
Beth Ransel,
California Desert District Manager.

[FR Doc. 2017-01340 Filed 1-19-17; 8:45 am]

BILLING CODE 4310-40-P